DEPARTMENT OF HEALTH AND HUMAN SERVICES

[Document Identifier OS-04040-0011]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 14, 2018.

ADDRESSES: Submit your comments to ed.calimag@hhs.gov or (202) 690-7569.

FOR FURTHER INFORMATION CONTACT: When submitting comments or requesting information, please include the document identifier 4040-0011 New-60D and project title for reference, to Sherrette.funn@hhs.gov, or call 202-795-7714, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Information Collection Request Title: SF-271 Outlay Report and Request for Reimbursement for Construction Programs.

Abstract: The SF-271 Outlay Report and Request for Reimbursement for Construction Programs form is by used grant awardees to request financial assistance funds for the purpose of reimbursement of construction-related expenditures.

Need and Proposed Use of the Information: The SF-271 Outlay Report and Request for Reimbursement for Construction Programs form is used by grant awardees in post-award financial activities related to Federal financial assistance.

Likely Respondents: Federal financial assistance awardees.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for the ICs are summarized in the table below.

HHS estimates that the form will take 1 hour to complete each form.

Once OMB approves the use of the SF-271 Outlay Report and Request for Reimbursement for Construction Programs form as a common form, federal agencies may request OMB approval to use this common form without having to publish notices and request public comments for 60 and 30 days. Each agency must account for the burden associated with their use of the common form.

Total Estimated Annualized Burden Hours
Form | Number of respondents | Number of responses per respondent | Average burden per response (in hours) | Total burden hours
SF-271 Outlay Report and Request for Reimbursement for Construction Programs | 100,000 | 1 | 1 | 100,000
Total | 100,000 |  |  | 100,000

Terry Clark,
Office of the Secretary, Paperwork Reduction Act Reports Clearance Officer.

[FR Doc. 2018-22342 Filed 10-12-18; 8:45 am]

BILLING CODE 4151-AE-P